DEPARTMENT OF COMMERCE

International Trade Administration

[C-570-068]

Forged Steel Fittings From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on forged steel fittings from the People's Republic of China (China) would be likely to lead to continuation or recurrence of countervailable subsidies at the levels indicated in the “Final Results of Review” section of this notice.

DATES: Applicable December 1, 2023.

FOR FURTHER INFORMATION CONTACT: William Horn, AD/CVD Operations, Office VIII, Enforcement and Compliance, International Trade Administration, U.S. Department of Commerce, 1401 Constitution Avenue NW, Washington, DC 20230; telephone: (202) 482-4868.

SUPPLEMENTARY INFORMATION:

Background

On November 26, 2018, Commerce published in the Federal Register the CVD order on forged steel fittings from China.¹ On August 1, 2023, Commerce published the notice of initiation of the first sunset review of the Order, pursuant to section 751(c) of the Tariff Act of 1930, as amended (the Act).²

¹ See Forged Steel Fittings from the People's Republic of China: Countervailing Duty Order, 83 FR 60396 (November 26, 2018) (Order).

² See Initiation of Five-Year (Sunset) Reviews, 88 FR 50110 (August 1, 2023).

On August 16, 2023, Commerce received notices of intent to participate in this review from Bonney Forge Corporation (Bonney Forge), Phoenix Forge Group d/b/a Capitol Manufacturing Company, LLC (Capitol Manufacturing Company), and the United Steel, Paper and Forestry, Rubber, Manufacturing, Energy, Allied Industrial and Service Workers International Union (USW) (collectively, the domestic interested parties), within the deadline specified in 19 CFR 351.218(d)(1)(i).³ Bonney Forge and Capitol Manufacturing Company claimed interested party status under section 771(9)(C) of the Act as producers of the domestic like product in the United States. The USW is a certified labor union whose members include workers at the facilities in which the domestic like product is produced and is, therefore, an interested party within the meaning of section 771(9)(D) of the Act and 19 CFR 351.102(b)(17). On August 31, 2023, Commerce received an adequate substantive response to the notice of initiation from the domestic interested parties, within the 30-day deadline specified in 19 CFR 351.218(d)(3)(i).⁴ We received no substantive responses from any respondent interested parties, including the Government of China, nor was a hearing requested.

³ See Domestic Interested Parties' Letter “Notice of Intent to Participate in the Five-Year Review of the Countervailing Duty Order on Forged Steel Fittings from China,” dated August 16, 2023.

⁴ See Domestic Interest Parties' Letter, “Substantive Response,” dated August 31, 2023.

On September 20, 2023, Commerce notified the U.S. International Trade Commission that it did not receive an adequate substantive response from respondent interested parties.⁵ As a result, pursuant to 751(c)(3)(B) of the Act and 19 CFR 351.218(e)(1)(ii)(B)(2) and (C)(2), Commerce conducted an expedited (120-day) sunset review of the Order.

⁵ See Commerce's Letter, “Sunset Reviews for August 2023,” dated September 20, 2023.

Scope of the Order

The products covered by the Order are forged steel fittings. For a complete description of the scope of the Order, see the Issues and Decision Memorandum.⁶

⁶ See Memorandum, “Issues and Decision Memorandum for the Final Results of the Expedited First Sunset Review of the Countervailing Duty Order on Forged Steel Fittings from China,” dated concurrently with, and hereby adopted by, this notice (Issues and Decision Memorandum).

Analysis of Comments Received

A complete discussion of all issues raised in this sunset review are addressed in the Issues and Decision Memorandum.⁷ A list of topics discussed in the Issues and Decision Memorandum is included as an appendix to this notice. The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://access.trade.gov/public/FRNoticesListLayout.aspx.

⁷ Id.

Final Results of Sunset Review

Pursuant to sections 751(c)(1) and 752(b) of the Act, Commerce determines that revocation of the Order would likely lead to continuation or recurrence of countervailable subsidies at the rates below:

Producers/exporters | Subsidy rate (percent)
Both-Well (Taizhou) Steel Fittings, Co., Ltd | 13.88
All Others | 13.88

Administrative Protective Order (APO)

This notice serves as the only reminder to parties subject to an APO of their responsibility concerning the destruction of proprietary information disclosed under APO in accordance with 19 CFR 351.305. Timely written notification of the return or destruction of APO materials or conversion to judicial protective order is hereby requested. Failure to comply with the regulations and terms of an APO is a sanctionable violation.

Notification to Interested Parties

We are issuing and publishing these final results in accordance with sections 751(c), 752(b), and 777(i)(1) of the Act, and 19 CFR 351.218.

Dated: November 27, 2023.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Countervailable Subsidies

2. Net Countervailable Subsidy Rates Likely To Prevail

3. Nature of the Subsidies

VII. Final Results of Sunset Review

VIII. Recommendation

[FR Doc. 2023-26467 Filed 11-30-23; 8:45 am]

BILLING CODE 3510-DS-P